FEDERAL COMMUNICATIONS COMMISSION

Deletion of Agenda Item From the June 13th Open Meeting

June 13, 2002.

The following item has been deleted from the list of agenda items scheduled for consideration at the June 13, 2002, Open Meeting and previously listed in the Commission's Notice of June 6, 2002. This item has been adopted by the Commission.

Item No., Bureau, and Subject

6—Wireline—Title: Schools and Libraries Universal Service. Competition—Support Mechanism (CC Docket No. 02-6). Summary: The Commission will consider an Order modifying section 54.507(a) of its rules as it pertains to unused funding.

Federal Communications Commission.
Marlene H. Dortch,
Secretary.

[FR Doc. 02-15634 Filed 6-17-02; 3:15 pm]

BILLING CODE 6712-01-P